DEPARTMENT OF ENERGY

10 CFR Part 430

[Docket No. EERE-2012-STD-0020]

RIN 1904-AC77

Energy Conservation Standards for Commercial Clothes Washers: Public Meeting and Availability of the Framework Document

AGENCY: Office of Energy Efficiency and Renewable Energy, Department of Energy.

ACTION: Notice of public meeting and availability of the framework document.

SUMMARY: The Department of Energy (DOE) issues a framework document to consider whether to amend the energy and water conservation standards for commercial clothes washers. DOE also announces a public meeting to discuss and receive comments on issues that it will address in this rulemaking proceeding. DOE is initiating data collection for considering amended energy and water conservation standards for commercial clothes washers. DOE also encourages written comments on potential amended standards, including comments on the issues identified in the framework document. The framework document, which is intended to inform stakeholders and facilitate the rulemaking process, is available at http://www1.eere.energy.gov/buildings/appliance_standards/commercial/clothes_washers.html.

DATES: DOE will hold a public meeting on September 24, 2012, from 9 a.m. to 12 p.m. in Washington, DC. Any person requesting to speak at the public meeting should submit such request along with a signed original and an electronic copy of the statements to be given at the public meeting before 4:00 p.m., September 10, 2012. Written comments are welcome, especially following the public meeting, and should be submitted by October 12, 2012.

ADDRESSES: The public meeting will be held at the U.S. Department of Energy, Forrestal Building, Room 8E-089, 1000 Independence Avenue SW., Washington, DC 20585-0121. Please note that foreign nationals participating in the public meeting are subject to advance security screening procedures. If a foreign national wishes to participate in the public meeting, please inform DOE of this fact as soon as possible by contacting Ms. Brenda Edwards at (202) 586-2945 so that the necessary procedures can be completed.

Stakeholders may submit comments, identified by docket number EERE-2012-STD- 0020 and/or Regulation Identifier Number (RIN) 1904-AC77, by any of the following methods:

• Federal eRulemaking Portal: http://www.regulations.gov Follow the instructions for submitting comments.

• Email: CommClothesWashers-2012-STD-0020@ee.doe.gov Include docket number EERE-2012-STD-0020 and/or RIN 1904-AC77 in the subject line of the message.

• Mail: Ms. Brenda Edwards, U.S. Department of Energy, Building Technologies Program, Mailstop EE-2J, 1000 Independence Avenue SW., Washington, DC 20585-0121. If possible, please submit all items on a CD. It is not necessary to include printed copies.

• Hand Delivery/Courier: Ms. Brenda Edwards, U.S. Department of Energy, Building Technologies Program, 950 L'Enfant Plaza SW., Suite 600, Washington, DC 20024. Phone: (202) 586-2945. Please submit one signed paper original. If possible, please submit all items on a CD. It is not necessary to include printed copies.

• Docket: The docket is available for review at http://www.regulations.gov, and will include Federal Register notices, framework document, notice of proposed rulemaking, public meeting attendee lists and transcripts, comments, and other supporting documents/materials throughout the rulemaking process. The docket can be accessed by searching for Docket No. EERE-2012-BT-STD-0020 at the regulations.gov Web site.

For further information on how to submit or review public comments or view hard copies of the docket in the Resource Room, contact Ms. Brenda Edwards at (202) 586-2945 or email: Brenda.Edwards@ee.doe.gov.

FOR FURTHER INFORMATION CONTACT:

Mr. Stephen Witkowski, U.S. Department of Energy, Office of Energy Efficiency and Renewable Energy, Building Technologies, EE-2J, 1000 Independence Avenue SW., Washington, DC 20585-0121. Phone: (202) 586-7463. Email: stephen.witkowski@ee.doe.gov.

Ms. Elizabeth Kohl, U.S. Department of Energy, Office of General Counsel, GC-71, 1000 Independence Avenue SW., Washington, DC 20585-0121. Phone: (202) 586-7796, email: elizabeth.kohl@hq.doe.gov.

SUPPLEMENTARY INFORMATION:

I. Introduction and Legal Authority

II. Test Procedures

III. Energy Conservation Standards

I. Introduction and Legal Authority

The Energy Policy and Conservation Act of 1975 (EPCA) established an energy conservation program for consumer products. (42 U.S.C. 6291-6309) The National Energy Conservation Policy Act of 1978 amended EPCA to add Part C of Title III, which established an energy conservation program for certain industrial equipment. (42 U.S.C. 6311-6317) (Part C was re-designated Part A-1 on codification in the U.S. Code, for editorial reasons.) The Energy Policy Act of 2005 (EPACT 2005), Public Law 109-58, further amended EPCA to expand DOE's energy conservation program to include commercial clothes washers and other commercial equipment.

EPACT 2005 established the first energy conservation standards for commercial clothes washers, requiring commercial clothes washers manufactured on or after January 1, 2007 to have a modified energy factor (MEF) of at least 1.26 and a water factor (WF) of no more than 9.5. (42 U.S.C. 6313(e)(1); 10 CFR 431.156) EPACT 2005 further directed DOE to conduct two rulemaking cycles to determine whether to amend these standards. EPCA required completion of the first rulemaking by January 1, 2010, and DOE must complete the second rulemaking by January 1, 2015. (42 U.S.C. 6313(e)).

DOE completed the first rulemaking when it issued a final rule to amend the standards for commercial clothes washers on December 18, 2009. (75 FR 1122, January 8, 2010). Compliance with the amended standards is required as of January 8, 2013. The January 2010 final rule established revised standards for two separate product classes: top-loading and front-loading commercial clothes washers. These standards were based on the MEF and WF metrics.

This current rulemaking will satisfy the requirement to publish the second final rule by January 1, 2015. Compliance with any amended standards would be required three years after the date of publication of the final standards.

II. Test Procedures

EPCA requires that CCWs use the same test procedures as residential clothes washers. (42 U.S.C. 6314(a)(8)) DOE published a final rule amending its clothes washer test procedures on March 7, 2012. (“March 2012 final rule”). (77 FR 13888) The March 2012 final rule amended the test procedure at 10 CFR part 430, subpart B, appendix J1 and established a new test procedure at Appendix J2. Manufacturers of both commercial and residential clothes washers will be required to use the new Appendix J2 on the compliance date of the amended standards for residential clothes washers, March 7, 2015. (The amended standards for residential clothes washers were established by a direct final rule. If DOE withdraws the direct final rule on the basis of adverse comments pursuant to 42 U.S.C. 6295(p)(4), a different compliance date may be established in subsequent rulemaking action for residential clothes washers.)

The new Appendix J2 contains provisions for measuring standby mode and off mode energy use, which is factored into a new efficiency metric, integrated modified energy factor (IMEF). Appendix J2 also establishes a new water efficiency metric, integrated water factor (IWF), which provides a more representative measure of water consumption by incorporating water consumption from all the temperature cycles; in contrast, the WF metric is based on the water consumption of only the cold wash cycle.

Appendix J2 retains provisions for calculating MEF and WF; however, because of certain changes to the active mode provisions of the test procedure, MEF and WF calculated using Appendix J2 will differ from MEF and WF calculated for the same clothes washer using the current test procedure at Appendix J1. The current standard levels for commercial clothes washers are based on MEF and WF as measured using Appendix J1, and products that minimally comply with the standard as measured using Appendix J1 would likely not comply if measured using Appendix J2.

III. Energy Conservation Standards

During this rulemaking, DOE will determine whether to further amend the energy conservation standards for commercial clothes washers. (42 U.S.C. 6313(e)). DOE will also consider developing correction factors that would be used to determine compliance with the MEF/WF standards effective January 8, 2013 when manufacturers are required to measure energy and water consumption using Appendix J2. Such correction factors would be used until compliance with any amended standards developed in this rulemaking was required.

EPCA requires that any new or amended energy conservation standard be designed to achieve the maximum improvement in energy or water efficiency that is technologically feasible and economically justified. To determine whether a standard is economically justified, EPCA requires that DOE determine whether the benefits of the standard exceed its burdens by considering, to the greatest extent practicable, the following:

(1) The economic impact of the standard on the manufacturers and consumers of the affected products;

(2) The savings in operating costs throughout the estimated average life of the product compared to any increases in the initial cost, or maintenance expense;

(3) The total projected amount of energy and water (if applicable) savings likely to result directly from the imposition of the standard;

(4) Any lessening of the utility or the performance of the products likely to result from the imposition of the standard;

(5) The impact of any lessening of competition, as determined in writing by the Attorney General, that is likely to result from the imposition of the standard;

(6) The need for national energy and water conservation; and

(7) Other factors the Secretary considers relevant.

(42 U.S.C. 6295 (o)(2)(B)(i) and 42 U.S.C. 6316(a))

To begin the required rulemaking process, DOE has prepared a framework document to explain the issues, analyses, and processes that it is considering for the development of amended energy conservation standards for commercial clothes washers. The framework document is available at http://www1.eere.energy.gov/buildings/appliance_standards/commercial/clothes_washers.html.

Additionally, DOE will hold a public meeting to focus on the analyses and issues described in the framework document. DOE encourages anyone who wishes to participate in the public meeting to view the framework document and to be prepared to discuss its contents. Public meeting participants need not limit their comments to the topics identified in the framework document; DOE is also interested in receiving views on other relevant issues that participants believe would affect energy conservation standards for this equipment. DOE welcomes all interested parties, regardless of whether they participate in the public meeting, to submit in writing comments and information on matters addressed in the framework document and on other matters relevant to consideration of standards for commercial clothes washers.

DOE will conduct the public meeting in an informal conference style. A court reporter will record the minutes of the meeting. The discussion will not include proprietary information, costs or prices, market shares, or other commercial matters regulated by U.S. antitrust laws.

After the public meeting and the expiration of the period for submitting written statements, DOE will begin collecting data, conducting the analyses as discussed at the public meeting, and reviewing public comments.

Anyone who wishes to participate in the public meeting, receive meeting materials, or be added to the DOE mailing list to receive future notices and information about the rulemaking process for commercial clothes washers should contact Ms. Brenda Edwards at (202) 586-2945.

Issued in Washington, DC, on July 31, 2012.
Kathleen B. Hogan,
Deputy Assistant Secretary of Energy, Energy Efficiency and Renewable Energy.

[FR Doc. 2012-19766 Filed 8-10-12; 8:45 am]

BILLING CODE 6450-01-P